NATIONAL AERONAUTICS AND SPACE ADMINISTRATION

[Notice: 20-085]

Information Collection: Tell Us Your Space Grant Story

AGENCY: National Aeronautics and Space Administration (NASA).

ACTION: Notice and request for comments on a new information collection.

SUMMARY: The National Aeronautics and Space Administration, as part of its continuing effort to reduce paperwork and respondent burden, invites the general public and other Federal agencies to take this opportunity to comment on proposed and/or continuing information collections.

DATES: Comments are due by December 21, 2020.

ADDRESSES: Submit comments regarding this burden estimate or any other aspect of this collection of information, including suggestions for reducing this burden, to NASA through the Federal eRulemaking Portal at www.regulations.gov. Select the “Submit a Comment” link listed under this information collection. All submissions received must include the agency name, Docket ID number, and title for this Federal Register document. NASA's general policy is comments and other submissions from the public will be posted without any change, including any personal and/or business confidential information provided. To confirm receipt of your comment(s), please check www.regulations.gov approximately two to three days after submission to verify posting.

FOR FURTHER INFORMATION CONTACT: Requests for additional information or copies of the information collection instrument(s) and instructions should be directed to Roger Kantz, NASA Clearance Officer, at 281-792-7885 or Roger.T.Kantz@nasa.gov.

SUPPLEMENTARY INFORMATION:

I. Abstract

The NASA Space Grant College and Fellowship Program wants to provide awardees with the opportunity to share with the public the NASA-related activities performed across the country. This collection will capture general information for the public to understand how NASA reaches them in every state and how to engage with the grantees directly.

II. Methods of Collection

All grantees will be set a link to provide the information electronically.

III. Data

Title: Tell Us Your Space Grant Story.

Type of review: Request for a new Information Collection.

Affected Public: Individuals (grantees).

Estimated Annual Number of Activities: 2.

Estimated Number of Respondents per Activity: 52.

Annual Responses: 4.

Estimated Time per Response: 15 minutes.

Estimated Total Annual Burden Hours: 52.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection.

Roger Kantz,
NASA PRA Clearance Officer.

[FR Doc. 2020-23201 Filed 10-19-20; 8:45 am]

BILLING CODE 7510-13-P